NATIONAL AERONAUTICS AND SPACE ADMINISTRATION

[Notice 07-054]

Insurance Requirement for Maximum Probable Loss (MPL) With Respect to Launch of Alliant Techsystems Inc. (ATK) ALV-X1 Suborbital Launch Vehicle at Wallops Flight Facility

AGENCY: National Aeronautics and Space Administration.

ACTION: Notice of Insurance Requirement.

SUMMARY: This notice is issued in accordance with 42 U.S.C. 2458c(b)(2)(B). Per statute, NASA is required to publish the amount of insurance required when a party to an agreement between the Administration and the party, made for the purpose of developing new technology for an experimental aerospace vehicle, has requested indemnification. For the demonstration launch of ATK's new suborbital ALV-X1 launch vehicle at NASA's Wallops Flight Facility, carrying experimental aerospace vehicle payloads, as defined in 42 U.S.C. 2458c(d)(3), scheduled for the 1st quarter of Fiscal Year 2008, the Administrator has determined the maximum probable loss to be $15.4 million for Government property, $180,000 for 3rd party property, and $9 million for 3rd party personnel. As a condition for indemnification, analogous to that required by the Commercial Space Launch Act, ATK is required to carry insurance to cover the MPL. Per statute, conditional indemnification may only be provided upon ATK's successful passage of a NASA safety review, and certification of adequate insurance coverage.

DATES: NASA may grant conditional indemnification to ATK following the successful passage of a safety review, and certification of adequate insurance coverage, unless, within fifteen (15) days from the date of this published notice, NASA receives written objections including evidence and argument that establish that indemnification would not be consistent with the requirements of 42 U.S.C. 2458c.

ADDRESSES: Objections relating to this determination may be submitted to Mr. Bruce Underwood, Chief, Advanced Projects Office, NASA Wallops Flight Facility, Wallops Island, VA 23337, (757) 824-1479.

FOR FURTHER INFORMATION CONTACT: Mr. Bruce Underwood, Chief, Advanced Projects Office, NASA Wallops Flight Facility, Wallops Island, VA 23337, (757) 824-1479.

Bruce Underwood,
Chief, Advanced Projects Office.

[FR Doc. E7-14294 Filed 7-23-07; 8:45 am]

BILLING CODE 7510-13-P